NATIONAL AERONAUTICS AND SPACE ADMINISTRATION

[Notice (15-121)]

Notice of Intent To Grant an Exclusive License

AGENCY: National Aeronautics and Space Administration.

ACTION: Notice of intent to grant exclusive license.

SUMMARY: This notice is issued in accordance with 35 U.S.C. 209(e) and 37 CFR 404.7(a)(1)(i). NASA hereby gives notice of its intent to grant an exclusive license in the United States to practice the inventions described and claimed in U.S. Patent No. 7,341,883 titled “Silicon Germanium Semiconductive Alloy and Method Of Fabricating Same,” NASA Case No. LAR-16868-1; U.S. Patent No. 7,514,726 titled “Graded Index Silicon Germanium on Lattice Matched Silicon Germanium Semiconductive Alloy,” NASA Case No. LAR-16872-1; U.S. Patent No. 7,558,371 titled “Method of Generating X-Ray Diffraction Data for Integral Detection of Twin Defects in Super-Hetero-Epitaxial Materials,” NASA Case No. LAR-17044-1; U.S. Patent No, 7,906,358 titled “Epitaxial Growth of Cubic Crystalline Semiconductor Alloys on Basal Plane of Trigonal or Hexagonal Crystal,” NASA Case No. LAR-17185-1; U.S. Patent No. 8,226,767 titled “Hybrid Bandgap Engineering for Super-Hetero-Epitaxial Semiconductor Materials, and Products Thereof,” NASA Case No. LAR-17405-1; U.S. Patent No. 8,257,491 titled “Rhombohedral Cubic Semiconductor Materials on Trigonal Substrate with Single Crystal Properties and Devices Based on Such Materials,” NASA Case No. LAR-17553-1; U.S. Patent No. 7,769,135 titled “X-ray Diffraction Wafer Mapping Method for Rhombohedral Super-Hetero-Epitaxy,” NASA Case No. LAR-17554-1; U.S. Patent Application No. 14/202,699 titled “High Mobility Transport Layer Structures for Rhombohedral Si/Ge/SiGe Devices,” NASA Case No. LAR-17841-1; U.S. Patent Application No. 14/204,535 titled “Double Sided Si(Ge)/Sapphire/III-Nitride Hybrid Structure,” NASA Case No. LAR-17922-1; U.S. Patent No. 8,044,294 titled “Thermoelectric Materials and Devices,” NASA Case No. LAR-17381-1; and U.S. Patent Application No. 14/279,614 titled “Integrated Multi-Color Light Emitting Device Made with Hybrid Crystal Structure,” NASA Case No. LAR-18133-1, to innoScience, Inc., having its principal place of business in Gaithersburg, Maryland. Certain patent rights in these inventions have been assigned to the United States of America as represented by the Administrator of the National Aeronautics and Space Administration. The prospective exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated partially exclusive license.

Objections submitted in response to this notice will not be made available to the public for inspection and, to the extent permitted by law, will not be released under the Freedom of Information Act, 5 U.S.C. 552.

ADDRESSES: Objections relating to the prospective license may be submitted to Patent Counsel, Office of Chief Counsel, NASA Langley Research Center, MS 30, Hampton, VA 23681; (757) 864-3221 (phone), (757) 864-9190 (fax).

FOR FURTHER INFORMATION CONTACT: Jennifer L. Riley, Patent Attorney, Office of Chief Counsel, NASA Langley Research Center, MS 30, Hampton, VA 23681; (757) 864-5057; Fax: (757) 864-9190. Information about other NASA inventions available for licensing can be found online at http://technology.nasa.gov.

Mark P. Dvorscak,
Agency Counsel for Intellectual Property.

[FR Doc. 2015-32718 Filed 12-30-15; 8:45 am]

BILLING CODE 7510-13-P